DEPARTMENT OF ENERGY

Federal Energy Regulatory Commission

[Docket No. CP21-78-000]

ANR Pipeline Company; Notice of Availability of the Final Environmental Impact Statement for the Proposed Wisconsin Access Project

The staff of the Federal Energy Regulatory Commission (FERC or Commission) has prepared a final environmental impact statement (EIS) for the Wisconsin Access Project, proposed by ANR Pipeline Company (ANR) in the above-referenced docket. ANR requests authorization to modify seven existing meter stations in Oneida, Marathon, Oconto, and Manitowoc Counties, Wisconsin and increase firm transportation capacity on its pipeline by 50,707 dekatherms per day.

The final EIS assesses the potential environmental effects of the construction and operation of the Wisconsin Access Project in accordance with the requirements of the National Environmental Policy Act. FERC staff concludes that approval of the Project would not result in significant environmental impacts, with the exception of climate change impacts, where staff find the annual operation and downstream greenhouse gas emissions from the project would exceed the Commission's presumptive significance threshold based on 100 percent utilization.

The final EIS addresses the potential environmental effects of the construction and operation of minor modifications to ANR's existing Coleman, Lena, Meeme, Mosinee, Rhinelander, Suring, and Two Rivers Meter Stations. The modifications include the replacement of some metering and filtering equipment, installation of additional metering equipment, and replacement of two meter station buildings at the Lena and Rhinelander Meter Stations.

The Commission mailed a copy of the Notice of Availability of the Final Environmental Impact Statement for the Wisconsin Access Project to federal, state, and local government representatives and agencies; elected officials; environmental and public interest groups; Native American tribes; potentially affected landowners and other interested individuals and groups; and newspapers and libraries in the project area. The final EIS is only available in electronic format. It may be viewed and downloaded from the FERC's website (www.ferc.gov), on the natural gas environmental documents page (https://www.ferc.gov/industries-data/natural-gas/environment/environmental-documents). In addition, the final EIS may be accessed by using the eLibrary link on the FERC's website. Click on the eLibrary link (https://elibrary.ferc.gov/eLibrary/search), select “General Search,” and enter the docket number in the “Docket Number” field (i.e., CP21-78). Be sure you have selected an appropriate date range. For assistance, please contact FERC Online Support at FercOnlineSupport@ferc.gov or toll free at (866) 208-3676, or for TTY, contact (202) 502-8659.

Additional information about the project is available from the Commission's Office of External Affairs, at (866) 208-FERC, or on the FERC website (www.ferc.gov) using the eLibrary link. The eLibrary link also provides access to the texts of all formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. Go to https://www.ferc.gov/ferc-online/overview to register for eSubscription.

Dated: March 18, 2022.
Kimberly D. Bose,
Secretary.

[FR Doc. 2022-06232 Filed 3-23-22; 8:45 am]

BILLING CODE 6717-01-P